DEPARTMENT OF HEALTH AND HUMAN SERVICES

Centers for Medicare & Medicaid Services

Single Source Notice of Funding Opportunity: Comprehensive Patient Reported Survey for Mental and Behavioral Health

AGENCY: Centers for Medicare & Medicaid Services (CMS), Department of Health and Human Services (HHS).

ACTION: Notice of funding opportunity.

SUMMARY: This notice announces the issuance of the August 26, 2022 single source funding opportunity titled “Comprehensive Patient Reported Survey for Mental and Behavioral Health” available solely to Virginia Commonwealth University (as host institution to The Larry A. Green Center) to support research and development of a patient-provider-payer survey tool that will assist in facilitating the integration of patient care delivery and enable CMS in improving the patient experience, decrease patient and provider burden and improve healthcare operational and administrative efficiencies.

DATES: The budget and project period of the award will be 36 months from the date of award. The tentative award date is September 26, 2022.

FOR FURTHER INFORMATION CONTACT: Rena McClain, (410) 786-3975.

SUPPLEMENTARY INFORMATION:

I. Background

CMS, through the Office of Burden Reduction and Health Informatics (OBRHI), seeks to partner with VCU in the development of a collaborative survey tool that will bring together the perspectives of patients, providers, and payors to understand their experiences across the range of health services they receive over time, also known as the healthcare continuum- specifically in mental and behavioral health services. In alignment with HHS' commitment to addressing the nation's behavioral health crises and strengthening mental health of all Americans, CMS anticipates the development and implementation of this survey will represent an opportunity to use new research methods to advance healthcare beyond its current separation of mind, body, and specialty. The right tool can enable all health outcomes—physical, behavioral, emotional, psychological, cultural, and social—by directing attention to those things patients and clinicians find most important about their care.

Summarized below are the high-level key goals/aims of this project.

• Environmental mapping to discover those questions that will yield feedback essential to understanding the patient experience across the healthcare continuum.

• Identification of elements of care most meaningful to stakeholders through crowd-sourcing.

• Facilitated collaborative workgroup(s) and listening sessions.

• Rigorous and multimodal testing of the designed survey.

• National survey distribution in the manner(s) in which CMS designates.

• Post-survey evaluation and reporting of incoming response data.

• Peer-reviewed publication(s) and conference presentations based on survey findings.

• Application for endorsement from the National Quality Forum (NQF) and the Measures Application Partnership (MAP).

II. Provisions of the Notice

CMS is anticipating approximately a total of $3,280,362 will be available to VCU for this cooperative agreement, pending availability of funds. VCU may use grant funds for a variety of planning, development, testing, and implementation objectives related to a collaborative patient-provider-payer survey tool that will assist in facilitating the integration of the patient care behavioral and mental health survey delivery. This includes but is not limited to hiring or contracting with professionals or firms to complete the work.

Pending an acceptable application and budget, CMS recommends awarding a single source cooperative agreement to VCU (as host institution to The Larry A. Green Center). As the developer of the Person-Centered Primary Care Measure (PCPCM), The Larry A. Green Center is uniquely positioned to provide this support to CMS. The PCPCM is a survey-based measure that asks patients to assess their personal experience of care using the pillars of primary care—comprehensiveness, first contact access, coordination, and continuity—as guideposts. While the PCPCM measure will not be utilized for this survey tool, the methodology and partnerships used in the PCPCMs creation are the foundation for the survey tool as evidenced by the following:

• Robust stakeholder engagement that incorporated the expertise of over 1,000 individuals and 40 organizations.

• Combined digital and social theory methods to crowd-source information among stakeholder groups.

• Demonstrated experience in improving accountability while reducing burden and cost for users- using a design process that listened to end users and enabled learning to ask the right questions. The process allowed The Larry A. Green Center to then develop the best solutions to those questions and apply systemic constraints so the best solution can be operational and pragmatic.

To date, there are no other surveys that take into consideration patients, providers, and payors as a whole. As a result of their endorsed PCPCM tool, expertise, capability to facilitate relationships with groups not often known to work together, and proven track record for success, The Larry A. Green Center (through VCU as the host institution and legal applicant) is the only organization suitable to complete the task at hand.

III. Collection of Information Requirements

This document does not impose information collection requirements, that is, reporting, recordkeeping or third-party disclosure requirements. Consequently, there is no need for review by the Office of Management and Budget under the authority of the Paperwork Reduction Act of 1995 (44 U.S.C. 3501 et seq.).

The Administrator of the Centers for Medicare & Medicaid Services (CMS), Chiquita Brooks-LaSure, having reviewed and approved this document, authorizes Lynette Wilson, who is the Federal Register Liaison, to electronically sign this document for purposes of publication in the Federal Register.

Lynette Wilson,
Federal Register Liaison, Centers for Medicare & Medicaid Services.

[FR Doc. 2022-20170 Filed 9-16-22; 8:45 am]

BILLING CODE 4120-01-P